DEPARTMENT OF ENERGY

Federal Energy Regulatory Commission

[Project No. 13757-002; Project No. 13761-002; Project No. 13768-002]

FFP Missouri 5, LLC, FFP Missouri 6, LLC, Solia 6 Hydroelectric, LLC; Notice of Applications Tendered for Filing With the Commission and Soliciting Additional Study Requests

Take notice that the following hydroelectric applications have been filed with the Commission and are available for public inspection.

a. Type of Applications: Original Major Licenses.

b. Project Nos.: 13757-002; 13761-002; 13768-002.

c. Dates Filed: March 14, 2014.

d. Applicants: FFP Missouri 5, LLC; FFP Missouri 6, LLC; Solia 6 Hydroelectric, LLC. All applicants are subsidiaries of Free Flow Power Corporation.

e. Names of Projects: Emsworth Locks and Dam Hydroelectric Project, 13757-002; Emsworth Back Channel Hydroelectric Project, 13761-002; Montgomery Locks and Dam Hydroelectric Project, 13768-002.

f. Locations: The proposed projects would be located at U.S. Army Corps of Engineers' (Corps) dams on the Ohio River in Allegheny and Beaver counties, Pennsylvania (see table below for specific locations). The projects would occupy 23.5 acres of federal land managed by the Corps.

Project No. | Projects | County and State | City/town
P-13757 | Emsworth Locks and Dam | Allegheny, PA | Emsworth.
P-13761 | Emsworth Back Channel Dam | Allegheny, PA | Emsworth.
P-13768 | Montgomery Locks & Dam | Beaver, PA | Borough of Industry.

g. Filed Pursuant to: Federal Power Act, 16 U.S.C. 791(a)-825(r).

h. Applicant Contact: Thomas Feldman, Vice President, Free Flow Power Corporation, 239 Causeway Street, Suite 300, Boston, MA 02114; or at (978) 283-2822.

Ramya Swaminathan, Chief Operating Officer, Free Flow Power Corporation, 239 Causeway Street, Suite 300, Boston, MA 02114; or at (978) 238-2822.

Daniel Lissner, General Counsel, Free Flow Power Corporation, 239 Causeway Street, Suite 300, Boston, MA 02114; or at (978) 283-2822.

i. FERC Contact: Brandi Sangunett, (202) 502-8393 or brandi.sangunett@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian tribe, or person believes that an additional scientific study should be conducted in order to form an adequate factual basis for a complete analysis of the application on its merit, the resource agency, Indian tribe, or person must file a request for a study with the Commission not later than 60 days from the date of filing of the application, and serve a copy of the request on the applicant.

l. Deadline for filing additional study requests and requests for cooperating agency status: May 13, 2014.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include the docket number(s) for the project(s) (e.g., P-13757-002).

m. The applications are not ready for environmental analysis at this time.

n. The proposed Emsworth Locks and Dam Hydroelectric Project would be the most upstream project at river mile (RM) 6.2 and would consist of the following new facilities: (1) A 205-foot-long, 180-foot-wide intake channel containing a 30-foot-long, 63.5-foot-high, 180-foot-wide intake structure with 5-inch bar spacing trashracks; (2) a 180-foot-long, 77-foot-high, 180-foot-wide reinforced concrete powerhouse on the south bank of the river; (3) four turbine-generator units with a combined capacity of 24 megawatts (MW); (4) a 380-foot-long, 280-foot-wide tailrace; (5) a 50-foot-long by 60-foot-wide substation; (6) a 1,893-foot-long, 69-kilovolt (kV), overhead transmission line to connect the project substation to an existing substation; and (7) appurtenant facilities. The average annual generation would be 101,300 megawatt-hours (MWh).

The proposed Emsworth Back Channel Dam Hydroelectric Project would be located at RM 6.8 and consist of the following new facilities: (1) A 100-foot-long, 165-foot-wide intake channel containing a 32-foot-long, 63.5-foot-high, 90-foot-wide intake structure with 5-inch bar spacing trashracks; (2) a 150-foot-long, 77-foot-high, 90-foot-wide reinforced concrete powerhouse on the north bank of the river; (3) two turbine-generator units with a combined capacity of 12.0 MW; (4) a 190-foot-long, 105-foot-wide tailrace; (5) a 50-foot-long by 60-foot-wide substation; (6) a 3,758-foot-long, 69-kV, overhead transmission line to connect the project substation to an existing substation; and (7) appurtenant facilities. The average annual generation would be 53,500 MWh.

The proposed Montgomery Locks and Dam Hydroelectric Project would be located at RM 31.7 and consist of the following new facilities: (1) A 340-foot-long, 205-foot-wide intake channel containing a 150-foot-long, 90-foot-high, 205-foot-wide intake structure with 5-inch bar spacing trashracks; (2) a 315-foot-long, 105-foot-high, 205-foot-wide reinforced concrete powerhouse on the north bank of the river; (3) three turbine-generator units with a combined capacity of 42 MW; (4) a 280-foot-long, 210-foot-wide tailrace; (5) a 50-foot-long by 60-foot-wide substation; (6) a 392-foot-long, 69-kV, overhead transmission line to connect the project substation to an existing distribution line; and (7) appurtenant facilities. The average annual generation would be 194,370 MWh.

Free Flow Power proposes to operate all three projects in a “run-of-river” mode using flows made available by the Corps. The proposed projects would not change existing flow releases or water surface elevations upstream or downstream of the proposed projects.

o. Location of the Applications: A copy of each application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. Copies are also available for inspection and reproduction at the address in item h above.

You may also register online at http://www.ferc.gov/docs-filing/esubscription.asp to be notified via email of new filings and issuances related to this or other pending projects. For assistance, contact FERC Online Support.

p. Procedural schedule: The application will be processed according to the following preliminary Hydro Licensing Schedule. Revisions to the schedule will be made as appropriate.

Milestone | Date
Issue Notice of Acceptance | April 2014.
Issue Scoping Document 1 for Comments | May 2014.
Hold Scoping Meeting | June 2014.
Comments Due on Scoping Document 1 | July 2014.
Issue Scoping Document 2 | August 2014.
Issue Notice of Ready for Environmental Analysis | August 2014.
Commission Issues EA | February 2015.

Dated: March 27, 2014.
Kimberly D. Bose,
Secretary.

[FR Doc. 2014-07499 Filed 4-3-14; 8:45 am]

BILLING CODE 6717-01-P